NATIONAL AERONAUTICS AND SPACE ADMINISTRATION

[Notice: (15-047)]

NASA Advisory Council; Science Committee; Astrophysics Subcommittee; Meeting

AGENCY: National Aeronautics and Space Administration.

ACTION: Notice of meeting.

SUMMARY: In accordance with the Federal Advisory Committee Act, Pub. L. 92-463, as amended, the National Aeronautics and Space Administration (NASA) announces a meeting of the Astrophysics Subcommittee of the NASA Advisory Council (NAC). This Subcommittee reports to the Science Committee of the NAC. The meeting will be held for the purpose of soliciting, from the scientific community and other persons, scientific and technical information relevant to program planning.

DATES: Tuesday, July 21, 2015, 11:00 a.m.-4:00 p.m., and Wednesday, July 22, 2015, 11:00 a.m.-4:00 p.m., Local Time.

FOR FURTHER INFORMATION CONTACT: Ms. Ann Delo, Science Mission Directorate, NASA Headquarters, Washington, DC 20546, (202) 358-0750, fax (202) 358-2779, or ann.b.delo@nasa.gov.

SUPPLEMENTARY INFORMATION: This meeting will be available telephonically and by WebEx. Any interested person may call the USA toll free conference call number 1-877-917-4912, passcode APSJULY, to participate in this meeting by telephone on both days. The toll conference call number is 1-312-470-0131, passcode APSJULY, on both days. The WebEx link is https://nasa.webex.com, meeting number 996 978 080 and passcode July21!! on July 21st, and meeting number 993 764 425 and passcode July22!! on July 22nd. The agenda for the meeting includes the following topics:

—Astrophysics Division Update

—Update of specific Astrophysics missions

—Report from the Program Analysis Groups

—Report on Decadal Planning

—Discussion of Astrophysics scientific performance for Government Performance Results and Modernization Act evaluation

It is imperative that the meeting be held on this date to accommodate the scheduling priorities of the key participants.

Harmony R. Myers,
Acting Advisory Committee Management Officer, National Aeronautics and Space Administration.

[FR Doc. 2015-15778 Filed 6-25-15; 8:45 am]

BILLING CODE 7510-13-P